DEPARTMENT OF COMMERCE

[Docket No.: 160518437-6437-01]

Office of Administration; Commerce Alternative Personnel System

AGENCY: Office of Administration, Office of Human Resources Management, Department of Commerce.

ACTION: Notice.

SUMMARY: This notice announces modifications to the provisions of the Commerce Alternative Personnel System, formerly the Department of Commerce Personnel Management Demonstration Project, published in the Federal Register on December 24, 1997.

As published on January 2, 2015 (80 FR 25), coverage under the Commerce Alternative Personnel System was expanded to include employees located in the National Telecommunications and Information Administration (NTIA), employed under the First Responder Network Authority (FirstNet), and direct-hire authority was implemented for certain FirstNet scientific and engineering positions in the ZP career path at the Pay Band IV and above, under section 3304(a)(3) of Title 5 of the United States Code.

This notice serves to amend the System to increase the number of ZP positions FirstNet is authorized to fill under direct-hire authority and to include ZP positions at Pay Band level III and above.

DATES: The amended Commerce Alternative Personnel System is effective June 22, 2016.

FOR FURTHER INFORMATION CONTACT: Department of Commerce—Sandra Thompson, U.S. Department of Commerce, 14th and Constitution Avenue NW., Room 51020, Washington, DC 20230, (202) 482-0056 or Valerie Smith at (202) 482-0272.

SUPPLEMENTARY INFORMATION:

1. Background

The Office of Personnel Management (OPM) approved the Department of Commerce (DoC) demonstration project for an alternative personnel management system and published the approval of the final plan in the Federal Register on Wednesday, December 24, 1997 (62 FR 67434). The demonstration project was designed to simplify current classification systems allowing greater flexibility in classifying work and paying employees; establish a performance management and rewards system for improving individual and organizational performance; and improve recruiting and examining to attract highly-qualified candidates. The purpose of the project was to strengthen the contribution of human resources management and test whether the same innovations conducted under the National Institute of Standards and Technology alternative personnel management system would produce similarly successful results in other DoC environments. The project was implemented on March 29, 1998. The project plan has been modified nine times to clarify certain DoC Demonstration Project authorities, and to extend and expand the project: 64 FR 52810 (September 30, 1999); 68 FR 47948 (August 12, 2003); 68 FR 54505 (September 17, 2003); 70 FR 38732 (July 5, 2005); 71 FR 25615 (May 1, 2006); 71 FR 50950 (August 28, 2006); 74 FR 22728 (May 14, 2009); 80 FR 25 (January 2, 2015); 81 FR 20322 (April 7, 2016). With the passage of the Consolidated Appropriations Act, 2008, Public Law 110-161, on December 26, 2007, the project was made permanent (extended indefinitely) and renamed the Commerce Alternative Personnel System (CAPS).

CAPS provides for modifications to be made as experience is gained, results are analyzed, and conclusions are reached on how the system is working. This notice announces that the DoC modifies the plan to increase the number of FirstNet positions authorized to be filled under direct-hire authority in the approved ZP career paths and to include occupational series at Pay Band level III and above. The DoC will follow the CAPS plan, as published in the Federal Register on December 24, 1997, and subsequent modifications as listed in the Background Section of this notice.

Kevin E. Mahoney,
Director for Human Resources Management and Chief Human Capital Officer.

Table of Contents

I. Executive Summary

II. Basis for CAPS Expansion

III. Changes to the Project Plan

I. Executive Summary

CAPS is designed to (1) improve hiring and allow DoC to compete more effectively for high-quality candidates through direct hiring, selective use of higher entry salaries, and selective use of recruitment incentives; (2) motivate and retain staff through higher pay potential, pay-for-performance, more responsive personnel systems, and selective use of retention incentives; (3) strengthen the manager's role in personnel management through delegation of personnel authorities; and (4) increase the efficiency of personnel systems through the installation of a simpler and more flexible classification system based on pay banding through reduction of guidelines, steps, and paperwork in classification, hiring, and other personnel systems, and through automation.

The current participating organizations include 7 offices of the Chief Financial Officer/Assistant Secretary for Administration in the Office of the Secretary; the Bureau of Economic Analysis; the Institute for Telecommunication Sciences—National Telecommunications and Information Administration; the First Responder Network Authority—National Telecommunications and Information Administration; and 12 units of the National Oceanic and Atmospheric Administration: Office of Oceanic and Atmospheric Research, National Marine Fisheries Service, the National Environmental Satellite, Data, and Information Service, National Weather Service—Space Environment Center, National Ocean Service, Program Planning and Integration Office, Office of the Under Secretary, Marine and Aviation Operations, Office of the Chief Administrative Officer, Office of the Chief Financial Officer, the Workforce Management Office, and the Office of the Chief Information Officer.

This amendment modifies the January 2, 2015 Federal Register notice (80 FR 25). Specifically, it increases the number of positions authorized to be filled under direct-hire authority, now including Pay Band III and above, and enables FirstNet to hire, after public notice is given, any qualified applicants in the ZP career path series as defined in the Basis for CAPS Expansion section without regard to 5 U.S.C. 3309-3318, 5 CFR part 211, or 5 CFR part 337, subpart A on a limited basis.

II. Basis for CAPS Expansion

A. Purpose

CAPS is designed to provide managers at the lowest organizational level the authority, control, and flexibility to recruit, retain, develop, recognize, and motivate its workforce, while ensuring adequate accountability and oversight.

FirstNet is required to manage the deployment and maintenance of the National Public Safety Broadband Network (NPSBN) for public safety responders within statutory requirements established in the Middle Class Tax Relief and Job Creation Act of 2012 (Pub. L. 112-96). Every phase of the program requires FirstNet to quickly hire qualified individuals, for specialized roles, to meet the requirements imposed by the Act. FirstNet recruitment efforts, utilizing direct-hire authority, have proven successful for ZP positions in the following occupational series: 0089—Emergency Management; 0854—Computer Engineering; and 0855—Electronics Engineering. FirstNet was previously authorized to utilize direct-hire authority to fill up to 56 positions in the 0089 series and up to 21 positions in the 0850; 0854; 0855 and the 1550 series, with the total number of positions allowed to be filled under direct-hire authority to not exceed 77 positions in the ZP career path at any one time. By increasing the number of authorized ZP positions to be filled under direct-hire authority and expanding the Pay Band to include positions at the Pay Band III level and above, FirstNet will continue to recruit and compete more effectively for qualified personnel possessing technical expertise in 4G LTE wireless network and other emerging wireless network technologies and/or the development of mobile software and network architecture as well as individuals possessing technical expertise in the formulation, development, and engagement of public safety officials in planning and implementing the nation-wide public safety broadband network and the programmatic requirements of the network acquisition through their public safety experience in preventing, protecting, responding, coordinating and/or mitigating emergency events. These areas of expertise are critical in order to test, evaluate, deploy, and operate a nation-wide public safety broadband network. The number of positions in the 0089, Emergency Management series, authorized to be filled under direct-hire authority will increase from 56 positions to 89 at Pay Bands III and above. The number of positions in the following series will increase from 21 positions to 39 at Pay Bands III and above: 0850, Electrical Engineering; 0854, Computer Engineering; 0855, Electronics Engineering; and 1550, Computer Science. The use of direct-hire authority to fill these positions will not exceed 128 positions in the specified ZP career paths at any one time. FirstNet will track the number of hires made under direct-hire authority, ensuring numbers specified for the occupational series are not exceeded.

Section 3304(a)(3) of Title 5 of the United States Code, provides agencies with the authority to appoint candidates directly to jobs for which the Office of Personnel Management (OPM) determines that there is a severe shortage of candidates or a critical hiring need. In 1997, with the approval of the DoC's Demonstration Project (62 FR 67434, December 24, 1997), OPM concurred that some occupations in the ZP career path at the Pay Band III and above constitute a shortage category, and some occupations for which there is a special rate under the General Schedule pay system constitute a shortage category. Past recruitment efforts have demonstrated a critical shortage of candidates possessing specialized technical, programmatic and contract expertise in 4G Long Term Evaluation (LTE) technologies and mobile systems, as well as expertise in public safety organizational operations and infrastructure capabilities.

DoC's CAPS allows for modifications of procedures if no new waiver from law or regulation is added. Given that this expansion and modification is in accordance with existing law and regulation and CAPS is a permanent alternative personnel system, the DoC is authorized to make the changes described in this notice.

III. Changes to the Project Plan

The CAPS at DoC, originally published in the Federal Register on December 24, 1997 (62 FR 67434) and subsequently expanded as discussed above, Section III (80 FR 25, January 2, 2015), is modified as follows:

1. Section III Personnel System Changes, (B) Staffing: Replace the paragraph in subsection titled: “Direct-Hire Authority: Critical Shortage Occupations” to state:

DoC FirstNet uses direct-hire procedures for categories of occupations that require skills that are in short supply. The following occupations constitute a shortage category at the Pay Band III and above, in the ZP Career Path: Electronics Engineers, Electrical Engineers, Computer Engineers, Computer Scientists, and Emergency Management Specialists (Public Safety). Any positions in these categories may be filled by FirstNet through direct-hire procedures in accordance with 5 U.S.C. 3304(a)(3). DoC FirstNet advertises the availability of job opportunities in direct-hire occupations by posting on the OPM USAJOBS Web site. DoC FirstNet will follow internal direct-hire procedures for accepting applications.

[FR Doc. 2016-14785 Filed 6-21-16; 8:45 am]

BILLING CODE 3510-EA-P